DEPARTMENT OF HEALTH AND HUMAN SERVICES

National Institutes of Health

National Heart, Lung, and Blood Institute Amended; Notice of Meeting

Notice is hereby given of a change in the meeting of the National Heart, Lung, and Blood Institute Special Emphasis Panel, January 24, 2017, 02:00 p.m. to January 24, 2017, 04:00 p.m., National Institutes of Health, 6701 Rockledge Drive, Bethesda, MD, 20892 which was published in the Federal Register on December 29, 2016, 81FR96028.

Dr. Sunnarborg's January 24, 2017, teleconference has been rescheduled to January 30, 2017, 09:30 a.m. to January 30, 2017, 11:00 a.m. The meeting is closed to the public.

January 12, 2017.
Michelle Trout,
Program Analyst, Office of Federal Advisory Committee Policy.

[FR Doc. 2017-01115 Filed 1-18-17; 8:45 am]

BILLING CODE 4140-01-P